DEPARTMENT OF DEFENSE

Office of the Secretary

[Docket ID: DoD-2020-OS-0020]

Submission for OMB Review; Comment Request

AGENCY: Defense Contract Management Agency, Department of Defense (DoD).

ACTION: 30-Day information collection notice.

SUMMARY: The Department of Defense has submitted to OMB for clearance the following proposal for collection of information under the provisions of the Paperwork Reduction Act.

DATES: Consideration will be given to all comments received by June 29, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION: Title; Associated Form; and OMB Number: Request for Approval for Qualification Training and Approval of Contractor Flight Crewmember; DD Form 2627, DD Form 2628, DD Form 3062; OMB Control Number 0704-0347.

Type of Request: Revision.

Number of Respondents: 150.

Responses per Respondent:

DD Form 2627: 2.

DD Form 2628: 2.

DD Form 3062: 52.

Annual Responses:

DD Form 2627: 300.

DD Form 2628: 300.

DD Form 3062: 7,800.

Total: 8,400.

Average Burden per Response:

DD Form 2627: 30 minutes.

DD Form 2628: 30 minutes.

DD Form 3062: 1 hour.

Annual Burden Hours:

DD Form 2627: 150 hours.

DD Form 2628: 150 hours.

DD Form 3062: 7,800 hours.

Total: 8,100 hours.

Needs and Uses: This is a request for OMB approval of updated versions of previously approved collections (for DD Form 2627 and 2628) for which approval has expired, and for OMB approval of new collection (DD Form 3062) which replaces the Defense Contract Management Agency (DCMA) Form 644. The requirements to have government approval of contract flight crewmembers and contract flights is in Defense Contract Management Command Instruction (DCMA INST) 8210.1, Contractor's Ground and Flight Operations, Chapter 4. The contractor provides information on contractor personnel to the government. The government approves the contractor's request for aircrew training and eventually, approval for contractor personnel to operate and fly government aircraft. The government also approves all flights under contract.

Affected Public: Individuals or households.

Frequency:

DD Form 2627: Semi-annually.

DD Form 2628: Semi-annually.

DD Form 3062: Weekly.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela James.

Requests for copies of the information collection proposal should be sent to Ms. James at whs.mc-alex.esd.mbx.dd-dod-information-collections@mail.mil.

Dated: May 22, 2020.
Aaron T. Siegel,
Alternate OSD Federal Register Liaison Officer, Department of Defense.

[FR Doc. 2020-11532 Filed 5-28-20; 8:45 am]

BILLING CODE 5001-06-P